ENVIRONMENTAL PROTECTION AGENCY

[FRL-7955-1]

Proposed CERCLA Administrative Cost Recovery Settlement; Axsys Technologies, Inc., U.S. Cap and Jacket Superfund Site, Prospect, CT

AGENCY: Environmental Protection Agency (EPA).

ACTION: Notice of proposed settlement; request for public comment.

SUMMARY: In accordance with section 122(i) of the Comprehensive Environmental Response, Compensation and Liability Act, as amended (“CERCLA”), 42 U.S.C. 9622(i), notice is hereby given of a proposed administrative settlement for recovery of past response costs concerning the U.S. Cap and Jacket Superfund Site in Prospect, Connecticut with the following settling party: Axsys Technologies, Inc. The settlement requires the settling party to pay $175,000.00 to the Hazardous Substance Superfund. The settlement includes a covenant not to sue the settling party pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate.

The Agency's response to any comments received will be available for public inspection at One Congress Street, Boston, MA 02214—2023.

DATES: Comment must be submitted on or before September 19, 2005.

ADDRESSES: Comments should be addressed to the Regional Hearing Clerk, U.S. Environmental Protection Agency, Region I, One Congress Street, Suite 1100 (RAA), Boston, Massachusetts 02114-2023 and should refer to: In re: U.S. Cap and Jacket Superfund Site, U.S. EPA Docket No. 01-2005-0036.

FOR FURTHER INFORMATION CONTACT: A copy of the proposed settlement may be obtained from Gregory Dain, Senior Enforcement Counsel, U.S. Environmental Protection Agency, Region I, Office of Environmental Stewardship, One Congress Street, Suite 1100 (SEL), Boston, MA 02114-2023.

Dated: July 14, 2005.
Susan Studlien,
Director, Office of Site Remediation & Restoration.

[FR Doc. 05-16481 Filed 8-18-05; 8:45 am]

BILLING CODE 6560-50-M